DEPARTMENT OF HEALTH AND HUMAN SERVICES

Administration for Children and Families

[Office of Management and Budget #: 0970-0477]

Proposed Information Collection Activity; Generic Clearance for Reviewer Recruitment Forms

AGENCY: Office of Planning, Research, and Evaluation, Administration for Children and Families, U.S. Department of Health and Human Services.

ACTION: Request for public comments.

SUMMARY: The Administration for Children and Families (ACF) proposes to extend approval of the existing overarching generic clearance for Reviewer Recruitment Forms (Office of Management and Budget (OMB) #0970-0477). No changes are proposed to the terms of the overarching generic. Burden estimates have been updated.

DATES: Comments due March 30, 2026.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION:

Description: The overarching generic clearance for Reviewer Recruitment Forms provides ACF with the opportunity to collect from potential reviewers, such as those who review grant proposals, conference proposals, research/evaluation plans, study designs, report drafts, and/or other ACF materials.

ACF developed this generic because each program office within ACF has slightly different needs for information about reviewer applicants based on the specific activities for which reviewers are needed, yet the individual forms submitted under the generic will serve an identical function. The overarching purpose is to select qualified reviewers for ACF review processes and activities based on professional qualifications. Information will be collected through questions on forms and documents provided by candidates. Example documents include writing samples and curriculum vitae and/or resumes. ACF uses the information collected to recruit well-qualified reviewers with relevant background experience and knowledge.

The abbreviated clearance process of the generic clearance allows program offices to gather a suitable pool of candidates within the varied time periods available for reviewer recruitment.

These forms submitted under this generic will be voluntary, low-burden and uncontroversial. Currently approved information collections are available for review on RegInfo.gov: https://www.reginfo.gov/public/do/PRAICList?ref_nbr=202506-0970-021.

Respondents: Individuals who may apply to review materials for ACF.

Annual Burden Estimates

The following burden estimates include burden associated with currently approved individual requests that ACF expects will be extended through this extension request and an estimate of burden for potential new requests under this generic. Based on the past three years and with a goal to reduce burden moving forward, the number of respondents has been reduced by 50 percent and the estimated time per response by 34 percent, from 30 to 20 minutes. Overall, burden for potential new requests is 67 percent less than the currently approved umbrella generic.

Potential New Requests
Instrument | Number of respondents (total over request period) | Number of responses per respondent (total over request period) | Avg. burden per response (in hours) | Total burden (in hours)
New Reviewer Recruitment Forms | 1,500 | 1 | .33 | 495

Ongoing Currently Approved Requests
Generic information collection title | Number of respondents | Annual number of responses per respondent | Average burden hours per response | Annual burden hours
Grant Reviewer Recruitment for the Family and Youth Services Bureau (FYSB) Discretionary Grant Programs | 250 | 1 | 0.17 | 42
Children's Bureau Grant Reviewer Recruitment Module | 500 | 1 | 0.08 | 42
Administration for Native Americans (ANA)Panel Reviewer Profile Questionnaire | 300 | 1 | 0.40 | 120
Eligibility Information from Applicants: Reviewer Information Form for General Reviewer and for Specific Reviewer | 95 | 1 | 0.17 | 16
Office of Planning, Research, and Evaluation, Division of Economic Independence Information Collection for Prospective Grant Reviewer Opportunities | 250 | 1 | 0.08 | 21
Total Estimated Annual Burden |  |  |  | 241

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary C. Jones,
ACF/OPRE Certifying Officer.

[FR Doc. 2026-01711 Filed 1-27-26; 8:45 am]

BILLING CODE 4184-88-P